DEPARTMENT OF COMMERCE

National Oceanic and Atmospheric Administration

RIN 0648-XP89

Fisheries of the South Atlantic and Gulf of Mexico; Southeastern Data, Assessment, and Review (SEDAR); SEDAR 18 Atlantic Red Drum Assessment Panel; Public Meeting

AGENCY: National Marine Fisheries Service (NMFS), National Oceanic and Atmospheric Administration (NOAA), Commerce.

ACTION: Notice of SEDAR 18 Atlantic Red Drum Post-Assessment Workshop Conference Call.

SUMMARY: The SEDAR 18 Assessment Panel will meet via conference call to review preliminary assessment model results, select a preferred assessment model, and discuss future analytical needs. See SUPPLEMENTARY INFORMATION.

DATES: The SEDAR 18 Assessment Workshop Panel will meet on Wednesday, July 15, 2009, from 1 p.m. to 3 p.m. (EDST).

ADDRESSES: The meeting will be held via conference call. A listening station is available at the following location: South Atlantic Fishery Management Council, 4055 Faber Place Drive #201, North Charleston, SC 29405.

FOR FURTHER INFORMATION CONTACT: Dale L. Theiling, SEDAR Coordinator, SAFMC, 4055 Faber Place, Suite 201, North Charleston, SC 29405; telephone: (843) 571-4366 or toll free: (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. SEDAR 18 is developing an assessment of the Atlantic red drum stock.

During this conference call the SEDAR 18 Red Drum Assessment Panel will follow-up on activities from its June 1-5, 2009 meeting by reviewing preliminary assessment model results, selecting a preferred assessment model, and discussing future analytical needs.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The listening station is physically accessible to people with disabilities. Requests for sign language interpretation or other auxiliary aids should be directed to the South Atlantic Fishery Management Council office at the address listed above at least 10 business days prior to the meeting.

Dated: June 17, 2009.
Tracey L. Thompson,
Acting Director, Office of Sustainable Fisheries, National Marine Fisheries Service.

[FR Doc. E9-14570 Filed 6-19-09; 8:45 am]

BILLING CODE 3510-22-S